DEPARTMENT OF HEALTH AND HUMAN SERVICES

Delegation of Authority

Notice is hereby given that in furtherance of the delegation of authority to the Assistant Secretary for Health on September 28, 1979, by the Secretary of Health and Human Services, the Assistant Secretary for Health has delegated to the Director, National Vaccine Program Office the authority under Section 1702(a) [42 U.S.C. 300u-1(a)] and Section 1703(a) and (c) [42 U.S.C. 300u-2(a) and (c)] of the Public Health Service Act, as amended, to conduct and support research programs and to conduct and support programs in health information and health promotion, preventive health services, and education in the appropriate use of health care and to support such work by private non-profit entities, respectively.

All previous delegations and redelegations under Title XVII of the Public Health Service Act shall continue in effect, provided that they are consistent with this delegation.

This delegation excludes the authority to issue regulations and to establish advisory committees and councils and appoint their members and shall be exercised in accordance with the Department's applicable policies, procedures, and guidelines.

I hereby affirm and ratify any actions taken by the Director, National Vaccine Program Office, or other NVPO officials, which involved the exercise of these authorities prior to the effective date of this delegation.

Dated: April 5, 2013.
Howard K. Koh,
Assistant Secretary for Health.

[FR Doc. 2013-08512 Filed 4-10-13; 8:45 am]

BILLING CODE 4150-44-P